DEPARTMENT OF COMMERCE

National Oceanic and Atmospheric Administration

Agency Information Collection Activities; Submission to the Office of Management and Budget (OMB) for Review and Approval; Comment Request; Pacific Coast Groundfish Fishery Rationalization Social Study

AGENCY: National Oceanic & Atmospheric Administration (NOAA), Commerce.

ACTION: Notice of information collection; request for comment.

SUMMARY: The Department of Commerce, in accordance with the Paperwork Reduction Act of 1995 (PRA), invites the general public and other Federal agencies to comment on proposed, and continuing information collections, which helps us assess the impact of our information collection requirements and minimize the public's reporting burden. The purpose of this notice is to allow for 60 days of public comment preceding submission of the collection to OMB.

DATES: To ensure consideration, comments regarding this proposed information collection must be received on or before October 3, 2022.

ADDRESSES: Interested persons are invited to submit written comments to Adrienne Thomas, NOAA PRA Officer, at NOAA.PRA@noaa.gov. Please reference OMB Control Number 0648-0606 in the subject line of your comments. Do not submit Confidential Business Information or otherwise sensitive or protected information.

FOR FURTHER INFORMATION CONTACT: Requests for additional information or specific questions related to collection activities should be directed to Suzanne Russell, Human Dimensions Team, Northwest Fisheries Science Center, NOAA Fisheries, 2725 Montlake Boulevard East, Seattle, WA 98112, (206) 860-3274, Suzanne.russell@noaa.gov.

SUPPLEMENTARY INFORMATION:

I. Abstract

This is a request for extension of an approved information collection.

The Human Dimensions Team of the Conservation Biology Division at the Northwest Fisheries Science Center (NWFSC), Seattle, WA, is requesting a renewal of its currently approved voluntary information collection 0648-0606. The data collected under this authorization supports the National Environmental Policy Act (NEPA), the current Magnuson Stevens Fishery Conservation Act (MSA), contributes information to the Endangered Species Act requirements, and the Regulatory Flexibility Act. Information from this data collection has supported National Marine Fisheries Service (NMFS) and Pacific Fisheries Management Council (PFMC) fisheries management actions. Data from this study has been included in broad resources to include the MSA mandated 5-year review of the West Coast Groundfish Trawl Catch Shares Program, in peer-reviewed documents, websites, and white papers. The collection of this data not only informs legal requirements for existing management actions, but provides information for future management actions requiring equivalent information.

Literature indicates fisheries rationalization programs have an impact on those individuals participating in the affected fishery. The PFMC implemented a rationalization program for the West Coast Groundfish limited entry trawl fishery in January 2011. This research aims to continue to study the individuals in the affected fishery over the long term. It aims to collect data on a five-year cycle, post initial data collection efforts. Prior data collection was related to program design elements. A baseline data collection occurred in 2010, followed by a second post-implementation collection in 2012, and a post quota-share trading collection in 2015/2016. The data collected has contributed to the five-year review of the program and highlighted several areas for continued research. Efforts have also identified the need for long term data collection as species recover and external factors affect fishermen in this fishery. Such challenges include underutilization, high costs of participation, difficulty finding qualified crew, COVID challenges, and other challenges. The study has been able to highlight several issues such as `graying of the fleet' in smaller communities, changing women's roles in commercial fishing, and fishermen's adaptations under the new regulations. Continued research is needed to understand continued and long-term social impacts. Combined with the ongoing mandatory Economic Data Collection (EDC) and biological data collection, this research provides the PFMC extensive information on concerns and impacts to fishing communities.

This data collection not only supports the requirements of NEPA and NSA, but supports the NWFSC's Vivid Description of the Future (VDOF) priorities to include Healthy Coastal Communities. This research project also supports NOAA's 2022-2026 Strategic Plan contributing information to Strategic Objective 2.2: Support Underserved and Vulnerable Communities, and Strategic Objective 3.3: Improve Resilience of Coastal Communities and Economies.

This study collects a broad swath of information from community members through a questionnaire and semi-structured interviews. Questionnaire sections include Demographic Information, Individual Participation Information, Connections, Catch Shares Perspectives, Quota Owners & Vessel Account Manager Section, Fishermen Section, and a Processors Section. The questionnaire is primarily administered in person in communities where respondents live. Study participants include anyone who has a connection to the West Coast Groundfish Trawl Fishery. This includes fishermen, fishermen's wives, processing personnel, suppliers (ice, net, drydock, etc.), and others linked to the fishery.

As previously indicated information from this study has broad applications. To date, this project has informed concerns of graying of the fleet—age disparities in some fisheries, has highlighted changing women's roles, has supported management to open Yelloweye fisheries, has reported on crew disparities, aims to understand processing challenges, and is contributing to Ecosystem Science Studies. Ongoing studies include infrastructure changes, vessel typology studies, and is contributing to fishing diversity knowledge as well as climate studies. Continued research will inform resilience and adaptation studies, will further inform infrastructure studies, and contribute to and further support efforts to understand underserved communities and build strong and healthy coastal communities.

At this time there are no changes to the questionnaire, no changes to the frequency of the data collection, and no changes to the target population. It is critical to maintain consistent study parameters for the longitudinal and time series study of this fishery to result in accurate and consistent data and results.

II. Method of Collection

The questionnaire is primarily administered in person in the communities where study participants live, work, and travel through. The questionnaire is also available to be downloaded on our study website in a fillable MSWord or PDF format, may be emailed to any individual, or a hard copy can be hand delivered or mailed to any individual to participate in the study. Interviews are conducted in-person at the time the questionnaires are administered in person. They may be used in lieu of a questionnaire if a study participant prefers an interview. Interview data supplements the survey and fills in any data holes and provides the participant the opportunity to voice any additional information they wish to have recorded.

III. Data

OMB Control Number: 0648-0606.

Form Number(s): None.

Type of Review: Regular (Extension of a current information collection).

Affected Public: Individuals or households; Business or other for-profit organizations; Not-for-profit institutions; State or Local government.

Estimated Number of Respondents: 350.

Estimated Time per Response: 45 minutes.

Estimated Total Annual Burden Hours: 191.

Estimated Total Annual Cost to Public: 0.

Respondent's Obligation: Voluntary.

Legal Authority: MSA, NEPA.

IV. Request for Comments

We are soliciting public comments to permit the Department/Bureau to: (a) Evaluate whether the proposed information collection is necessary for the proper functions of the Department, including whether the information will have practical utility; (b) Evaluate the accuracy of our estimate of the time and cost burden for this proposed collection, including the validity of the methodology and assumptions used; (c) Evaluate ways to enhance the quality, utility, and clarity of the information to be collected; and (d) Minimize the reporting burden on those who are to respond, including the use of automated collection techniques or other forms of information technology.

Comments that you submit in response to this notice are a matter of public record. We will include or summarize each comment in our request to OMB to approve this ICR. Before including your address, phone number, email address, or other personal identifying information in your comment, you should be aware that your entire comment—including your personal identifying information—may be made publicly available at any time. While you may ask us in your comment to withhold your personal identifying information from public review, we cannot guarantee that we will be able to do so.

Sheleen Dumas,
Department PRA Clearance Officer, Office of the Chief Information Officer, Commerce Department.

[FR Doc. 2022-16705 Filed 8-3-22; 8:45 am]

BILLING CODE 3510-22-P